INTERNATIONAL TRADE COMMISSION

[Investigation No. 337-TA-599]

In the Matter of Certain Lighting Control Devices Including Dimmer Switches and/Or Switches and Parts Thereof; Notice of Commission Decision Not To Review Initial Determinations Granting Motions To Terminate Investigation As to All Respondents and to Terminate the Investigation In Its Entirety

AGENCY: U.S. International Trade Commission.

ACTION: Notice.

SUMMARY: Notice is hereby given that the U.S. International Trade Commission has determined not to review the presiding administrative law judge's (“ALJ”) initial determination (“ID”) (Order No. 9) granting the joint motion of complainant Lutron Electronics Co., Inc. (“Lutron”) and Leviton Manufacturing Company, Inc. (“Leviton”) to terminate the investigation as to Leviton on the basis of a settlement agreement, and the ALJ's ID (Order No. 10) granting the motion of Lutron to terminate the investigation as to Control 4 Corporation (“Control4”) based on withdrawal of the complaint and terminating the investigation in its entirety.

FOR FURTHER INFORMATION CONTACT: Jonathan J. Engler, Esq., Office of the General Counsel, U.S. International Trade Commission, 500 E Street, SW., Washington, DC 20436, telephone (202) 205-3112. Copies of the ALJ's IDs and all other non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On April 5, 2007, the Commission instituted this investigation, based on a complaint filed by Lutron Electronics Co., Inc. (“Lutron”) of Coopersburg, Pennsylvania. Lutron's amended Complaint alleges violations of section 337 in the importation into the United States, the sale for importation, and the sale within the United States after importation of certain lighting control devices including dimmer switches and/or switches and parts thereof by reason of infringement of claims 1, 36, 65, 83, 85, 89, 90, 94, 112, 114, 116, 118, 119, 123, 149, 178, 193, 195, 197, 199, and 200 of U.S. Patent No. 5,637,930 (“the `930 patent”); claims 44, 47, and 49 of U.S. Patent No. 5,248,919 (“the `919 patent”); claims 1-5, 8-10, 12, and 22 of U.S. Patent No. 5,982,103 (“ the `103 patent”); claims 151, 152, and 155-157 of U.S. Patent No. 5,905,442 (“the `442 patent”); and claims 1, 3, and 14 of U.S. Patent No. 5,736,965 (“the `965 patent”). The complaint further alleges that an industry in the United States exists as required by subsection (a)(2) of section 337. The complainant requested that the Commission issue a limited exclusion order and a cease and desist order. The complaint named two firms as respondents: Leviton Manufacturing Company, Inc. (“Leviton”) of Little Neck, New York, and Control4 Corporation (“Control4”) of Salt Lake City, Utah.

On September 24, 2007, a joint motion between Lutron and Respondent Leviton was filed seeking termination of this investigation based upon a settlement agreement. On October 2, 2007, Lutron moved to terminate the investigation as to respondent Control4 based on withdrawal of the complaint. Control4 did not oppose Lutron's motion.

On November 15, 2007 the ALJ issued Order No. 9, terminating the investigation as to Leviton and Order No. 10, terminating the investigation with respect to Control4 and, inasmuch as no respondent remains, terminating the investigation in its entirety. The Commission has determined not to review the IDs.

The authority for the Commission's determination is contained in section 337 of the Tariff Act of 1930, as amended (19 U.S.C. 1337), and in section 210.42 of the Commission's Rules of Practice and Procedure (19 CFR § 210.42).

Issued: December 10, 2007.
By order of the Commission.
Marilyn R. Abbott,
Secretary to the Commission.

[FR Doc. E8-822 Filed 1-17-08; 8:45 am]

BILLING CODE 7020-02-P